DEPARTMENT OF COMMERCE

Census Bureau

Census Scientific Advisory Committee

AGENCY: Census Bureau, Department of Commerce.

ACTION: Notice of public virtual meeting.

SUMMARY: The Census Bureau is giving notice of a virtual meeting of the Census Scientific Advisory Committee (CSAC). The Committee will address policy, research, and technical issues relating to a full range of Census Bureau programs and activities, including decennial, economic, field operations, information technology, and statistics. Last minute changes to the schedule are possible, which could prevent giving advance public notice of schedule adjustments.

DATES: The virtual meeting will be held on:

• Thursday, March 9, 2023, from 11:00 a.m. to 5:00 p.m. EDT, and

• Friday, March 10, 2023, from 11:00 a.m. to 5:00 p.m. EDT.

ADDRESSES: Please visit the Census Advisory Committee website at https://www.census.gov/about/cac/sac/meetings/2023-03-meeting.html, for the CSAC meeting information, including the agenda, and how to join the meeting.

FOR FURTHER INFORMATION CONTACT: Shana Banks, Advisory Committee Branch Chief, Office of Program, Performance and Stakeholder Integration (PPSI), shana.j.banks@census.gov, Department of Commerce, Census Bureau, telephone 301-763-3815. For TTY callers, please use the Federal Relay Service at 1-800-877-8339.

SUPPLEMENTARY INFORMATION: The Committee provides scientific and technical expertise to address Census Bureau program needs and objectives. The members of the CSAC are appointed by the Director of the Census Bureau. The Committee has been established in accordance with the Federal Advisory Committee Act (Title 5, United States Code, Appendix 2, Section 10).

All meetings are open to the public. Public comments will be accepted in writing only to shana.j.banks@census.gov (subject line “2023 CSAC Spring Virtual Meeting Public Comment”). A brief period will be set aside during the meeting to read public comments received in advance of 12:00 p.m. EDT, March 9, 2023. Any public comments received after the deadline will be posted to the website listed in the ADDRESSES section.

Robert L. Santos, Director, Census Bureau, approved the publication of this Notice in the Federal Register.

Dated: February 13, 2023.
Shannon Wink,
Program Analyst, Policy Coordination Office, U.S. Census Bureau.

[FR Doc. 2023-03378 Filed 2-16-23; 8:45 am]

BILLING CODE 3510-07-P